DEPARTMENT OF ENERGY

Federal Energy Regulatory Commission

Combined Notice of Filings #1

Take notice that the Commission received the following electric corporate filings:

Docket Numbers: EC16-127-000.

Applicants: Verso Corporation, Verso Maine Energy LLC, Rumford Paper Company, NewPage Energy Services LLC.

Description: Supplement to June 2, 2016 Application for Disposition of Jurisdictional Facilities under Section 203 of the Federal Power Act of Verso Corporation, et al.

Filed Date: 6/16/16.

Accession Number: 20160616-5174.

Comments Due: 5 p.m. ET 6/27/16.

Take notice that the Commission received the following electric rate filings:

Docket Numbers: ER10-1819-015; ER10-1820-018; ER10-1818-013;

ER10-1817-014.

Applicants: Northern States Power Company, a Minnesota corporation, Northern States Power Company, a Wisconsin corporation, Public Service Company of Colorado, Southwestern Public Service Company.

Description: Supplement to May 19, 2016 Notice of Change in Status of Northern States Power Company, a Minnesota corporation, et al.

Filed Date: 6/20/16.

Accession Number: 20160620-5138.

Comments Due: 5 p.m. ET 7/11/16.

Docket Numbers: ER13-521-002; ER13-520-002; ER13-1442-002; ER13-1273-002; ER13-1272-002; ER13-1271-002; ER13-1269-002; ER13-1268-002; ER13-1267-002; ER13-1266-002; ER13-1441-002; ER13-1270-002; ER13-1266-003; ER12-1626-003; ER10-3246-003; ER10-3246-002; ER10-2605-006; ER10-2475-006; ER10-2474-006; EL15-22-000.

Applicants: Pinyon Pines Wind I, LLC, Pinyon Pines Wind II, LLC, Solar Star California XIX, LLC, Solar Star California XX, LLC, Topaz Solar Farms LLC, CalEnergy, LLC, CE Leathers Company, Del Ranch Company, Elmore Company, Fish Lake Power LLC, Salton Sea Power Generation Company, Salton Sea Power L.L.C., Vulcan/BN Geothermal Power Company, Yuma Cogeneration Associates, Bishop Hill Energy II LLC, Cordova Energy Company LLC, Saranac Power Partners, L.P., Power Resources, Ltd., Marshall Wind Energy LLC, Grand Prairie Wind, LLC.

Description: The BHE Renewables Companies submit tariff filing per 35.19a(b): Refund Report to be effective N/A, et al.

Filed Date: 6/20/16.

Accession Number: 20160620-5141.

Comments Due: 5 p.m. ET 7/11/16.

Docket Numbers: ER15-1471-007; ER15-1672-006; ER12-1308-008.

Applicants: Blue Sky West, LLC, Evergreen Wind Power II, LLC, Palouse Wind, LLC.

Description: Notice of Non-Material Change in Status of Blue Sky West, LLC, et al.

Filed Date: 6/21/16.

Accession Number: 20160621-5124.

Comments Due: 5 p.m. ET 7/12/16.

Docket Numbers: ER16-425-004.

Applicants: New York Independent System Operator, Inc.

Description: Compliance filing: Compliance-remove effective date Comprehensive Scarcity Pricing to be effective 12/31/9998.

Filed Date: 6/21/16.

Accession Number: 20160621-5132.

Comments Due: 5 p.m. ET 6/28/16.

Docket Numbers: ER16-1967-000.

Applicants: PJM Interconnection, L.L.C.

Description: Compliance filing: Compliance filing per 4/21/2016 order in Docket No. EL13-88 to be effective 8/22/2016.

Filed Date: 6/20/16.

Accession Number: 20160620-5130.

Comments Due: 5 p.m. ET 7/11/16.

Docket Numbers: ER16-1968-000.

Applicants: New York Independent System Operator, Inc.

Description: § 205(d) Rate Filing: NYISO 205 filing tariff revisions of cost allocation methodology for RMR to be effective 1/1/2016.

Filed Date: 6/20/16.

Accession Number: 20160620-5135.

Comments Due: 5 p.m. ET 7/11/16.

Docket Numbers: ER16-1969-000.

Applicants: Midcontinent Independent System Operator, Inc.

Description: Compliance filing: 2016-06-20_Compliance filing to address NIPSCO Complaint Order to be effective 8/22/2016.

Filed Date: 6/20/16.

Accession Number: 20160620-5136.

Comments Due: 5 p.m. ET 7/11/16.

Docket Numbers: ER16-1970-000.

Applicants: PJM Interconnection, L.L.C.

Description: Tariff Cancellation: Notice of Cancellation of Service Agreement No. 4210, Queue No. Z2-090 to be effective 6/14/2016.

Filed Date: 6/21/16.

Accession Number: 20160621-5059.

Comments Due: 5 p.m. ET 7/12/16.

Docket Numbers: ER16-1971-000.

Applicants: PJM Interconnection, L.L.C.

Description: Tariff Cancellation: Notice of Cancellation of ISA No. 3564, Queue No. Y2-099 due to Deactivation to be effective 1/31/2016.

Filed Date: 6/21/16.

Accession Number: 20160621-5071.

Comments Due: 5 p.m. ET 7/12/16.

Docket Numbers: ER16-1972-000.

Applicants: PJM Interconnection, L.L.C.

Description: § 205(d) Rate Filing: Amendment to Original ISA No. 4415, Queue No. Z2-028 to be effective 2/3/2016.

Filed Date: 6/21/16.

Accession Number: 20160621-5072.

Comments Due: 5 p.m. ET 7/12/16.

Docket Numbers: ER16-1973-000.

Applicants: Western Antelope Blue Sky Ranch B LLC.

Description: Baseline eTariff Filing: Western Antelope Blue Sky Ranch B LLC MBR Tariff to be effective 6/22/2016.

Filed Date: 6/21/16.

Accession Number: 20160621-5073.

Comments Due: 5 p.m. ET 7/12/16.

Docket Numbers: ER16-1974-000.

Applicants: Southern California Edison Company.

Description: § 205(d) Rate Filing: Amended GIA and Distribution Service Agmt with San Gorgonio Westwinds II, LLC to be effective 5/27/2016.

Filed Date: 6/21/16.

Accession Number: 20160621-5097.

Comments Due: 5 p.m. ET 7/12/16.

Docket Numbers: ER16-1975-000.

Applicants: Alabama Electric Marketing, LLC.

Description: § 205(d) Rate Filing: Market-Based Rate Tariff Revisions to be effective 6/22/2016.

Filed Date: 6/21/16.

Accession Number: 20160621-5127.

Comments Due: 5 p.m. ET 7/12/16.

Docket Numbers: ER16-1976-000.

Applicants: California Electric Marketing, LLC.

Description: § 205(d) Rate Filing: Market-Based Rate Tariff Revisions to be effective 6/22/2016.

Filed Date: 6/21/16.

Accession Number: 20160621-5129.

Comments Due: 5 p.m. ET 7/12/16.

Docket Numbers: ER16-1977-000.

Applicants: CSOLAR IV South, LLC.

Description: § 205(d) Rate Filing: Market-Based Rate Tariff Revisions to be effective 6/22/2016.

Filed Date: 6/21/16.

Accession Number: 20160621-5130.

Comments Due: 5 p.m. ET 7/12/16.

Docket Numbers: ER16-1978-000.

Applicants: LQA, LLC.

Description: § 205(d) Rate Filing: Market-Based Rate Tariff Revisions to be effective 6/22/2016.

Filed Date: 6/21/16.

Accession Number: 20160621-5131.

Comments Due: 5 p.m. ET 7/12/16.

Docket Numbers: ER16-1979-000.

Applicants: New Mexico Electric Marketing, LLC.

Description: § 205(d) Rate Filing: Market-Based Rate Tariff Revision to be effective 6/22/2016.

Filed Date: 6/21/16.

Accession Number: 20160621-5133.

Comments Due: 5 p.m. ET 7/12/16.

Docket Numbers: ER16-1980-000.

Applicants: Tenaska Energía de Mexico, S. de R. L. d.

Description: § 205(d) Rate Filing: Market-Based Rate Tariff Revisions to be effective 6/22/2016.

Filed Date: 6/21/16.

Accession Number: 20160621-5135.

Comments Due: 5 p.m. ET 7/12/16.

Docket Numbers: ER16-1981-000.

Applicants: Tenaska Power Management, LLC.

Description: § 205(d) Rate Filing: Market-Based Rate Tariff Revisions to be effective 6/22/2016.

Filed Date: 6/21/16.

Accession Number: 20160621-5136.

Comments Due: 5 p.m. ET 7/12/16.

Docket Numbers: ER16-1982-000.

Applicants: Tenaska Power Services Co.

Description: § 205(d) Rate Filing: Market-Based Rate Tariff Revisions to be effective 6/22/2016.

Filed Date: 6/21/16.

Accession Number: 20160621-5137.

Comments Due: 5 p.m. ET 7/12/16.

Docket Numbers: ER16-1983-000.

Applicants: California Independent System Operator Corporation.

Description: § 205(d) Rate Filing: 2016-06-21_Local Market Power Mitigation Enhancements 2015 to be effective 1/30/2017.

Filed Date: 6/21/16.

Accession Number: 20160621-5138.

Comments Due: 5 p.m. ET 7/12/16.

Docket Numbers: ER16-1984-000.

Applicants: Texas Electric Marketing, LLC.

Description: § 205(d) Rate Filing: Market-Based Rate Tariff Revisions to be effective 6/22/2016.

Filed Date: 6/21/16.

Accession Number: 20160621-5139.

Comments Due: 5 p.m. ET 7/12/16.

Docket Numbers: ER16-1985-000.

Applicants: PJM Interconnection, L.L.C.

Description: § 205(d) Rate Filing: Revisions to OATT and OA re: Dynamic Transfers to be effective 8/20/2016.

Filed Date: 6/21/16.

Accession Number: 20160621-5142.

Comments Due: 5 p.m. ET 7/12/16.

Docket Numbers: ER16-1986-000.

Applicants: Michigan Electric Transmission Company, LLC.

Description: § 205(d) Rate Filing: TOOA Filing to be effective 6/1/2016.

Filed Date: 6/21/16.

Accession Number: 20160621-5154.

Comments Due: 5 p.m. ET 7/12/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 21, 2016.
Nathaniel J. Davis, Sr.,
Deputy Secretary.

[FR Doc. 2016-15282 Filed 6-28-16; 8:45 am]

BILLING CODE 6717-01-P